NATIONAL SCIENCE FOUNDATION

Notice of the Availability of Finding of No Significant Impact for a Marine Geophysical Survey in the Arctic Ocean

AGENCY: National Science Foundation.

ACTION: Notice of availability of a Finding of No Significant Impact for proposed activities in the Arctic Ocean.

SUMMARY: The National Science Foundation gives notice of the availability of a Finding of No Significant Impact for proposed activities in the Arctic Ocean.

The Office of Polar Programs (OPP) has prepared an Environmental Assessment of a marine geophysical survey by the Coast Guard cutter Healy across the Arctic Ocean, August-September 2005. Given the United States Program's mission to support polar research, the proposed action is expected to result in substantial benefits to science. The draft Environmental Assessment was available for public review for a 45-day period.

DATES: Comments on the FONSI must be submitted on or before July 25, 2005.

ADDRESSES: Copies of the Finding of No Significant Impact and the Environmental Assessment are available upon request from: Dr. Polly A. Penhale, National Science Foundation, Office of Polar Programs, 401 Wilson Blvd., Suite 755, Arlington, VA 22230. Telephone: (703) 292-8033.

SUPPLEMENTARY INFORMATION: The National Science Foundation prepared a draft Environmental Impact Assessment (EA) for a marine geophysical survey across the Arctic Ocean and solicited public comments (Federal Register: April 11, 2005, Vol. 70, No. 68, Page 18431-18432; and April 27, 2005, Vol. 70, No. 80, Page 21819). The National Science Foundation has prepared a Finding of No Significant Impact (FONSI) based on this EA, in accordance with CEQ regulations § 1500-1508 and 45 CRF 640. It was determined that the proposed activity would not result in a significant impact on the quality of the human environment within the meaning of the National Environmental Policy Act (NEPA) of 1969. Therefore, a FONSI was issued, and no environmental impact statement is required.

Copies of the FONSI and the Environmental Assessment titled, An Environmental Assessment of a Marine Geophysical Survey b the Coast Guard Cutter Healy Across the Arctic Ocean August-September 2005, are available upon request from: Dr. Polly A. Penhale, National Science Foundation, Office of Polar Programs, 4201 Wilson Blvd., Suite 755, Arlington, VA 22230, Telephone: (703) 292-8033 or at the agency's Web site at: http://www.nsf.gov/od/opp/arctic/arc_envir/healy_ea.pdf and http://www.nsf.gov/od/opp/arctic/arc_envir/healy_fonsi.pdf. The National Science Foundation invites interested members of the public to provide written comments on this FONSI.

Polly A. Penhale,
Environmental Officer, Office of Polar Programs, National Science Foundation.

[FR Doc. 05-12460 Filed 6-22-05; 8:45 am]

BILLING CODE 7555-01-M